DEPARTMENT OF JUSTICE

Notice of Lodging of Consent Decree under the Residential Lead-Based Paint Hazard Reduction Act

Notice is hereby given on December 9, 2005, a proposed consent decree in United States v. V.T. Fallon dba VTF Properties, Civil Action No. 05-2830 RJL/AKB, was lodged with the United States District Court for the District of Minnesota.

The consent decree settles claims against the owner and management company of approximately eleven residential properties containing approximately 124 units located in Minneapolis, Minnesota. The claims were brought on behalf of the Department of Housing and Urban Development (“HUD”) and the Environmental Protection Agency (“EPA”) under the Residential Lead-Based Paint Hazard Reduction Act, 42 U.S.C. 4851 et seq. (“Lead Hazard Reduction Act”). The United States alleged in the complaint that the defendant failed to make one or more of the disclosures or to complete one or more of the disclosure activities required by the Lead Hazard Reduction Act.

Under the consent decree, defendant will certify that he is complying with residential lead paint notification requirements. He has agreed to hire contractors to complete risk assessments and has agreed to abate all lead-based paint hazards identified in all residential properties he owns and manages. Defendant is required to complete abatement of one-fifth of his portfolio each year, and to complete all required hazard abatement activities within five years after HUD and EPA approve Defendant's hazard abatement plan. The schedule for hazard abatement will be accelerated to require completion of abatement in any unit within five months of Defendant learning about the presence of a child with an elevated blood-lead level (in addition to the requirement to comply immediately with any abatement order issued by a local government which requires any immediate measures to protect a poisoned child).

In addition, Defendant will pay a civil penalty of $7,500 to the United States. Defendant will also perform a child health improvement project of $50,000 to provide for a mobile testing vehicle to conduct lead screening and testing of children in the Minneapolis-St. Paul area within two years after entry of the Consent Decree.

The Department of Justice will receive for a period of thirty (30) days from the date of this publication comments relating to the consent decree. Comments should be addressed to the Assistant Attorney General of the Environmental and Natural Resources Division, Department of Justice, P.O. Box 7611, Washington, DC 20044-7611, and should refer to United States v. V.T. Fallon dba VTF Properties, D.J. #90-5-2-1-08752.

The proposed consent decree may be examined at the Department of Housing and Urban Development, Office of General Counsel, 451 7th St. NW., Room 9262, Washington, DC 20410; at the office of the United States Attorney for the District of Minnesota, 600 U.S. Courthouse, 300 South Fourth Street, Minneapolis, Minnesota, 55415 (Attn. Assistant United States Attorney Gregory G. Brooker); and at U.S. EPA Region 5, 77 W. Jackson Blvd., Chicago, IL 60604. During the public comment period, the consent decree may also be examined on the following Department of Justice Web site, http://www.usdoj.gov/enrd/open.html. Copies of the consent decree may also be obtained by mail from the Consent Decree Library, P.O. Box 7611, U.S. Department of Justice, Washington, DC 20044-7611, or by faxing or e-mailing a request to Tonia Fleetwood (tonia.fleetwood@usdoj.gov), fax no (202) 514-0097, phone confirmation number (202) 514-1547. In requesting a copy please refer to the referenced case and enclose a check in the amount of $10.25 (25 cents per page reproduction costs), payable to the U.S. Treasury for the consent decree in United States v. V.T. Fallon dba VTF Properties, D.J. #90-5-2-1-08752.

Karen S. Dworkin,
Assistant Chief, Environmental Enforcement Section, Environment and Natural Resources Division.

[FR Doc. 06-927 Filed 1-31-06:8:45 am]

BILLING CODE 4410-15-M